ENVIRONMENTAL PROTECTION AGENCY

[ER-FRL-9022-6]

Environmental Impact Statements; Notice of Availability

Responsible agency: Office of Federal Activities, General Information (202) 564-7146 or http://www2.epa.gov/nepa.

Weekly Receipt of Environmental Impact Statements (EISs)

Filed 08/17/2015 Through 08/21/2015

Notice: Section 309(a) of the Clean Air Act requires that EPA make public its comments on EISs issued by other Federal agencies. EPA's comment letters on EISs are available at: https://cdxnodengn.epa.gov/cdx-enepa-public/action/eis/search.

EIS No. 20150237, Final, USFS, AZ, Bill Williams Mountain Restoration Project, review period ends: 10/02/2015, Contact: Marcos Roybal 928-635-8210.

EIS No. 20150238, Draft, USFWS, MA,Silvio O. Conte National Fish and Wildlife Refuge Draft Comprehensive Conservation Plan, comment period ends: 11/16/2015, Contact: Nancy McGarigal 413-253-8562.

EIS No. 20150239, Final Supplement, FHWA, DC, South Capitol Street Project, Contact: Michael Hicks 202-219-3513 Under MAP-21 Section 1319, FHWA has issued a single FSEIS and ROD. Therefore, the 30-day wait/review period under NEPA does not apply to this action.

EIS No. 20150240, Draft, FTA, NC, Durham-Orange Light Rail Transit Project, comment period ends: 10/13/2015, Contact: Stan Mitchell 404-865-5643.

EIS No. 20150241, Final, NPS, FL, Everglades National Park General Management Plan/East Everglades Wilderness Study, review period ends: 09/28/2015, Contact: Fred Herling 303-242-7704.

EIS No. 20150242, Final, USFS, NM, Southwest Jemez Mountains Landscape Restoration Project, review period ends: 10/05/2015, Contact: Chris Napp 505-438-5448.

EIS No. 20150243, Draft, USACE, NC, Holden Beach Shoreline Protection Project, comment period ends: 10/13/2015, Contact: Emily Hughes 910-251-4635.

EIS No. 20150244, Final, USFS, CA, King Fire Restoration, Contact: Katy Parr 530-621-5203. The issuance of this Final EIS reflects the President's Council on Environmental Quality (CEQ) alternative arrangements granted in accordance with 40 CFR 1506.11. CEQ specifically eliminated the 30-day waiting period between the publication of the FEIS and the Record of Decision.

Amended Notices

EIS No. 20150176, Draft, DOE, ID, Recapitalization of Infrastructure Supporting Naval Spent Nuclear Fuel Handling (DOE/EIS-0453-D), comment period ends: 08/31/2015, Contact: Erik Anderson 202-781-6057. Revision to FR Notice Published 06/26/2015; DOE has reopened the comment period to end on 08/31/2015.

Dated: August 25, 2015.
Dawn Roberts,
Management Analyst, NEPA Compliance Division, Office of Federal Activities.

[FR Doc. 2015-21379 Filed 8-27-15; 8:45 am]

BILLING CODE 6560-50-P